OFFICE OF PERSONNEL MANAGEMENT

Excepted Service

AGENCY: U.S. Office of Personnel Management (OPM).

ACTION: Notice.

SUMMARY: This notice identifies Schedule A, B, and C appointing authorities applicable to a single agency that were established or revoked from May 1, 2015, to May 31, 2015.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2015.

Schedule B

No Schedule B Authorities to report during May 2015.

Schedule C

The following Schedule C appointing authorities were approved during May 2015.

Agency name | Organization name | Position title | Authorization No. | Effective date
Department of Agriculture | Office of the Assistant Secretary for Congressional Relations | Senior Legislative Analyst Legislative Analyst | DA150131 DA150141 | 5/1/2015 5/14/2015
| Foreign Agricultural Service | Special Assistant Policy Advisor | DA150133 DA150144 | 5/1/2015 5/14/2015
| Office of the Secretary | White House Liaison | DA150134 | 5/1/2015
| Office of Under Secretary for Natural Resources and Environment | Chief of Staff Senior Advisor | DA150145 DA150142 | 5/14/2015 5/14/2015
| Natural Resources Conservation Service | Special Assistant for Public and Private Partnerships | DA150142 | 5/15/2015
Department of Commerce | Office of Director General of the United States and Foreign Commercial Service and Assistant Secretary for Global Markets | Special Advisor | DC150102 | 5/12/2015
| Office of the Under Secretary | Special Advisor Special Assistant | DC150095 DC150107 | 5/14/2015 5/15/2015
| Office of the Deputy Secretary | Special Assistant | DC150104 | 5/14/2015
| Office of White House Liaison | Deputy Director, Office of White House Liaison | DC150098 | 5/21/2015
| Office of the Chief of Staff | Confidential Assistant Deputy Director of Advance and Special Assistant | DC150105 DC150106 | 5/21/2015 5/21/2015
| Office of Scheduling and Advance | Advance Specialist | DC150110 | 5/21/2015
Department of Defense | Office of the Under Secretary of Defense (Comptroller) | Personal and Confidential Assistant (Comptroller) | DD150123 | 5/11/2015
| Office of Principal Deputy Under Secretary for Policy | Special Assistant for Strategy, Plans and Forces | DD150134 | 5/14/2015
| Office of the Assistant Secretary of Defense (International Security Affairs) | Special Assistant for Middle East | DD150126 DD150128 | 5/20/2015 5/20/2015
Department of the Air Force | Office of Assistant Secretary Air Force, Installations, Environment, and Logistics | Special Assistant for Installations, Environment, and Energy | DF150049 | 5/14/2015
Department of Education | Office of the General Counsel | Chief of Staff Senior Counsel | DB150076 DB150080 | 5/1/2015 5/15/2015
| Office of the Under Secretary | Deputy Director, White House Initiative on Asian American Pacific Islanders | DB150078 | 5/1/2015
| Office of Legislation and Congressional Affairs | Special Assistant | DB150079 | 5/1/2015
| Office of the Secretary | Senior Advisor Director of Strategic Partnerships, Special Advisor | DB150082 DB150083 | 5/14/2015 5/20/2015
| Office for Civil Rights | Senior Counsel | DB150086 | 5/28/2015
| Office of Communications and Outreach | Strategic Advisor, Communications | DB150087 | 5/29/2015
| Office of the Deputy Secretary | Director for Strategic Communications and Scheduling | DB150088 | 5/29/2015
Department of Energy | Office of the Chief Information Officer | Special Assistant | DE150084 | 5/15/2015
| Office of Assistant Secretary for Fossil Energy | Chief of Staff | DE150087 | 5/15/2015
| Office of the Secretary | Special Advisor | DE150079 | 5/21/2015
Environmental Protection Agency | Office of Public Affairs | Press Secretary | EP150036 | 5/20/2015
Export-Import Bank | Office of the Chairman | Deputy Chief of Staff | EB150003 | 5/5/2015
Federal Energy Regulatory Commission | Office of the Chairman | Confidential Assistant | DR150015 | 5/18/2015
General Services Administration | Office of the Administrator | Senior Advisor Deputy Chief of Staff | GS150032 GS150033 | 5/6/2015 5/14/2015
| Office of Communications and Marketing | Press Secretary | GS150034 | 5/22/2015
Government Printing Office | Office of the Public Printer | Executive Assistant | GP150001 | 5/19/2015
Department of Health and Human Services | Office of the Assistant Secretary for Public Affairs | Deputy Director of Speechwriting Confidential Assistant | DH150131 DH150140 | 5/7/2015 5/14/2015
| Office of the Secretary | Policy Advisor | DH150141 | 5/29/2015
| Office of the Assistant Secretary for Children and Families | Senior Policy Advisor | DH150149 | 5/29/2015
| Office of the Deputy Secretary | Confidential Assistant | DH150150 | 5/29/2015
Department of Homeland Security | Office of the Chief of Staff | Special Assistant | DM150158 | 5/13/2015
| Office of the Under Secretary for National Protection and Programs Directorate | Confidential Assistant | DM150162 | 5/15/2015
| Office of Privacy Officer | Special Assistant | DM150170 | 5/28/2015
| Office of the Executive Secretariat | Director of Trips and Advance | DM150171 | 5/28/2015
| Office of the Assistant Secretary for Policy | Senior Advisor for Cyber Policy | DM150172 | 5/28/2015
| Office of the General Counsel | Confidential Assistant | DM150173 | 5/28/2015
Department of the Interior | Secretary's Immediate Office | Deputy Communications Director Senior Advisor and Press Secretary | DI150086 DI150092 | 5/29/2015 5/29/2015
|  | Advance Representative | DI150093 | 5/29/2015
Department of Justice | Office of Legislative Affairs | Attorney Advisor | DJ150080 | 5/26/2015
| Office of Justice Programs | Senior Counsel | DJ150084 | 5/28/2015
Department of Labor | Office of Public Affairs | Press Secretary | DL150057 | 5/1/2015
| Office of the Deputy Secretary | Senior Policy Advisor | DL150059 | 5/13/2015
| Office of the Secretary | Special Assistant | DL150060 | 5/18/2015
| Wage and Hour Division | Special Assistant | DL150061 | 5/21/2015
National Aeronautics and Space Administration | Office of Communications | Deputy Press Secretary and Strategic Communications Coordinator | NN150058 | 5/20/2015
|  | Social Media Specialist | NN150059 | 5/20/2015
National Transportation Safety Board | Office of Board Members | Special Assistant | TB150004 | 5/1/2015
Office of Management and Budget | Office of the General Counsel | Confidential Assistant | BO150027 | 5/5/2015
| Office of the Director | Assistant to the Deputy Director for Management | BO150028 | 5/5/2015
|  | Assistant for Management | BO150031 | 5/20/2015
|  | Assistant to the Deputy Director for Management | BO150030 | 5/20/2015
| Office of Legislative Affairs | Confidential Assistant | BO150029 | 5/20/2015
Small Business Administration | Office of Congressional and Legislative Affairs | Deputy Assistant Administrator for Congressional and Legislative Affairs | SB150031 | 5/1/2015
| Office of the Administrator | Special Advisor | SB150029 | 5/5/2015
| Office of Communications and Public Liaison | Associate Administrator for Communications and Public Liaison | SB150033 | 5/14/2015
| Office of Entrepreneurial Development | Senior Advisor | SB150030 | 5/29/2015
Department of State | Bureau of International Security and Nonproliferation | Staff Assistant | DS150082 | 5/14/2015
| Office of the Secretary | Staff Assistant | DS150075 | 5/20/2015
| Bureau of Legislative Affairs | Deputy Assistant Secretary | DS150081 | 5/20/2015
| Bureau of Democracy, Human Rights and Labor | Deputy Assistant Secretary | DS150078 | 5/26/2015
| Bureau of Economic and Business Affairs | Deputy Assistant Secretary | DS150084 | 5/21/2015
Department of Transportation | Office of Assistant Secretary for Transportation Policy | Policy Advisor | DT150060 | 5/20/2015
| Office of Public Affairs | Director of Public Affairs | DT150062 | 5/20/2015
| Office of the Secretary | Director of Advance | DT150065 | 5/28/2015
| Office of Communications and Legislative Affairs | Director of Communications | DT150067 | 5/29/2015
Department of Veterans Affairs | Office of the Assistant Secretary for Public and Intergovernmental Affairs | Special Assistant | DV150037 | 5/26/2015

The following Schedule C appointing authorities were revoked during May 2015.

Agency name | Organization name | Position title | Authorization No. | Vacate date
Department of Commerce | Office of Legislative and Intergovernmental Affairs | Confidential Assistant | DC140006 | 5/2/15
| Office of the Under Secretary | Special Assistant | DC140049 | 5/16/15
| International Trade Administration | Confidential Assistant | DC140125 | 5/16/15
| Office of the Deputy Secretary | Special Assistant | DC130094 | 5/23/15
| Office of the Chief Economist | Special Project Advisor | DC140076 | 5/29/15
Office of the Secretary of Defense | Office of the Secretary | Advance Officer | DD150021 | 5/10/15
Farm Credit Administration | Office of the Board | Executive Assistant to Chairman of the Board | FL130005 | 5/1/15
General Services Administration | Mid-Atlantic Region | Special Assistant to the Regional Administrator | GS140005 | 5/8/15
| Pacific Rim Region | Special Assistant to the Regional Administrator | GS140009 | 5/13/15
| Office of Communications and Marketing | Press Secretary | GS140023 | 5/15/15
| Office of the Administrator | White House Liaison Senior Advisor | GS130011 GS130012 | 5/16/15 5/16/15
Department of Health and Human Services | Office of Health Reform | Senior Policy Analyst | DH140065 | 5/2/15
Department of Housing and Urban Development | Office of the Secretary Mid-Atlantic (Philadelphia) | Senior Policy Advisor Regional Administrator | DU140052 DU110001 | 5/2/15 5/16/15
| Rocky Mountain (Denver) | Regional Administrator | DU100050 | 5/30/15
| Office of Field Policy and Management | Regional Administrator (Northwest/Alaska) | DU140002 | 5/30/15
| Great Plains (Kansas City) | Regional Administrator (Great Plains) | DU140006 | 5/30/15
Department of the Interior | Secretary's Immediate Office | Special Assistant for Scheduling | DI120064 | 5/1/15
|  | Deputy Director of Advance | DI140026 | 5/2/15
|  | Director of Digital Strategy | DI140066 | 5/15/15
Department of Justice | Office of Legislative Affairs | Attorney Advisor | DJ130073 | 5/2/15
Department of Labor | Office of the Secretary | Special Assistant to the Secretary Special Assistant | DL130043 DL100020 | 5/2/15 5/9/15
| Wage and Hour Division | Policy Advisor | DL140007 | 5/2/15
Small Business Administration | Office of Investment | Special Advisor | SB130025 | 5/2/15
Department of State | Office of the Deputy Secretary for Management and Resources | Senior Advisor | DS110135 | 5/2/15
| Office of the Under Secretary for Management | Staff Assistant | DS130124 | 5/2/15
Department of Transportation | Office of the Secretary | White House Liaison Deputy White House Liaison | DT130041 DT140050 | 5/2/15 5/2/15

Authority: 5 U.S.C. 3301 and 3302; E.O. 10577, 3 CFR, 1954-1958 Comp., p. 218.

U.S. Office of Personnel Management.
Beth F. Cobert,
Acting Director.

[FR Doc. 2015-19215 Filed 8-4-15; 8:45 am]

BILLING CODE 6325-39-P